DEPARTMENT OF TRANSPORTATION

49 CFR Parts 27 and 37

[Docket No. OST-2006-23985]

RIN 2105-AE15

Transportation for Individuals With Disabilities; Reasonable Modification of Policies and Practices; Correction

AGENCY: Office of the Secretary (OST), U.S. Department of Transportation (DOT).

ACTION: Final rule; correction.

SUMMARY: This document corrects two typographical errors in the final rule that appeared in the Federal Register on March 13, 2015, entitled “Transportation for Individuals With Disabilities; Reasonable Modification of Policies and Practices.”

DATES: This document is effective July 13, 2015.

FOR FURTHER INFORMATION CONTACT: Jill Laptosky, Office of the General Counsel, 1200 New Jersey Avenue SE., Washington, DC 20590, Room W96-488, (202) 493-0308, jill.laptosky@dot.gov. For questions related to transit, you may contact Bonnie Graves, Office of Chief Counsel, Federal Transit Administration, same address, Room E56-306, (202) 366-0944, bonnie.graves@dot.gov; and, for rail, Linda Martin, Office of Chief Counsel, Federal Railroad Administration, same address, Room W31-304, (202) 493-6062, linda.martin@dot.gov.

SUPPLEMENTARY INFORMATION:

I. Background

In FR Doc. 2015-05646 of March 13, 2015 (80 FR 13253), there were two typographical errors, which are identified and corrected in the Correction of Errors section below. The provisions in this correction document are effective as if they had been included in the document that appeared in the March 13, 2015 Federal Register. Accordingly, the corrections are effective July 13, 2015.

II. Correction of Errors

In FR Doc. 2015-05646 of March 13, 2015 (80 FR 13253), make the following corrections:

§ 37.169 [Corrected]

1. On page 13261, in the second column, in the first paragraph of § 37.169, in the fourth line, remove “§ 37.5(g)(1)” and add “§ 37.5(i)(3)” in its place.

Appendix E to Part 37 [Corrected]

2. On page 13261, in the third column, in the first paragraph of Appendix E to Part 37, in the second line, remove “§§ 37.5(g)” and add “§§ 37.5(i)” in its place.

Issued this 28th day of April, 2015, at Washington, DC under authority delegated in 49 CFR 1.27(c).
Kathryn B. Thomson,
General Counsel.

[FR Doc. 2015-10991 Filed 5-6-15; 8:45 am]

BILLING CODE 4910-9X-P